JUDICIAL CONFERENCE OF THE UNITED STATES

Revision of Certain Dollar Amounts in the Bankruptcy Code Prescribed Under Section 104(b) of the Code

AGENCY: Judicial Conference of the United States.

ACTION: Notice.

SUMMARY: Modification of Federal Register notice that certain dollar amounts in title 11 and title 28, United States Code, are increased. [Original notice appeared in the Federal Register of February 14, 2007].

SUPPLEMENTARY INFORMATION: The following provides (1) An updated list of the adjustments to 11 U.S.C. Section 707(b) and (2) an updated list of the Bankruptcy Forms which will be amended to reflect the adjusted dollar amounts.

11 U.S.C. | Dollar amount to be adjusted | New (adjusted) dollar amount
707(b)—dismissal of a case or conversion to a case under chapter 11 or 13 (means test):
(1)—in paragraph (2)(A)(i)(I) | $6,000 | $6,575
(2)—in paragraph (2)(A)(i)(II) | 10,000 | 10,950
(3)—in paragraph (2)(A)(ii)(IV) | 1,500 | 1,650
(4)—in paragraph (2)(B)(iv)(I) | 6,000 | 6,575
(5)—in paragraph (2)(B)(iv)(II) | 10,000 | 10,950
(6)—in paragraph (5)(B) | 1,000 | 1,100
(7)—in paragraph 6(C) | 525 | 575
(8)—in paragraph 7(A)(iii) | 525 | 575

Official Bankruptcy Forms 1, 6C, 6E, 7, 10, 22A, and 22C also will be amended to reflect these adjusted dollar amounts.

FOR FURTHER INFORMATION CONTACT: Francis F. Szczebak, Chief, Bankruptcy Judges Division, Administrative Office of the United States Courts, Washington, DC 20544, telephone (202) 502-1900.

Dated: March 26, 2007.
Francis F. Szczebak,
Chief, Bankruptcy Judges Division.

[FR Doc. E7-5922 Filed 3-29-07; 8:45 am]

BILLING CODE 2210-55-P